DEPARTMENT OF TRANSPORTATION

Surface Transportation Board

[Docket No. FD 35885]

Peru Land Acquisition 2, LLC—Acquisition Exemption—Rail Line of The City of Peru, Ill.

Peru Land Acquisition 2, LLC (PLA2), a noncarrier, has filed a verified notice of exemption under 49 CFR 1150.31 to acquire from the City of Peru, Ill. (Peru) ownership of approximately 3.5 miles of rail line (the Peru City Track), in Bureau and LaSalle Counties, Ill.

According to PLA2, there are no mileposts associated with the line. The line was formerly owned by LaSalle & Bureau County Railroad Company and was subsequently sold to Peru. The trackage extends from a point of connection with Illinois Railway, LLC (IR), a Class III rail carrier, on its western end, to the end of the line west of Illinois Route 251.

This transaction is related to a concurrently filed verified notice of exemption in Docket No. FD 35886, Illinois Railway, LLC—Lease and Operation Exemption—Rail Line of Peru Land Acquisition 2, LLC, wherein IR seeks Board approval to lease and operate the Peru City Track, upon PLA2's becoming a Class III rail carrier.

The transaction may be consummated on or after January 10, 2015 (30 days after the notice of exemption was filed).

PLA2 certifies that its projected annual revenues as a result of this transaction will not result in its becoming a Class II or Class I rail carrier and will not exceed $5 million.

PLA2 states that the acquisition agreement does not include any provision limiting PLA2's future interchange of traffic on the line with a third-party connecting carrier.

If the verified notice contains false or misleading information, the exemption is void ab initio. Petitions to revoke the exemption under 49 U.S.C. 10502(d) may be filed at any time. The filing of a petition to revoke will not automatically stay the effectiveness of the exemption. Petitions to stay must be filed no later than January 2, 2015 (at least 7 days before the exemption becomes effective).

An original and 10 copies of all pleadings, referring to Docket No. FD 35885, must be filed with the Surface Transportation Board, 395 E Street SW., Washington, DC 20423-0001. In addition, a copy of each pleading must be served on Michael J. Barron, Jr., Fletcher & Sippel LLC, 29 North Wacker Drive, Suite 920, Chicago, IL 60606.

Board decisions and notices are available on our Web site at WWW.STB.DOT.GOV.

Decided: December 19, 2014.
By the Board, Rachel D. Campbell, Director, Office of Proceedings.
Raina S. White,
Clearance Clerk.

[FR Doc. 2014-30201 Filed 12-23-14; 8:45 am]

BILLING CODE 4915-01-P